DEPARTMENT OF JUSTICE

Notice of Lodging of Proposed Consent Decree Under the Clean Air Act

On September 22, 2022, the Department of Justice lodged a proposed consent decree with the United States District Court for the Southern District of Ohio in the lawsuit entitled United States v. ALTIVIA Petrochemicals, LLC, Civil Action No. 1:21-cv-00640.

The proposed Consent Decree will resolve an action filed in October 2021 relating to emissions of hazardous air pollutants from ALTIVIA's petrochemical manufacturing facility located in Haverhill, Ohio in violation of section 113(a)(3) of the Clean Air Act (CAA), 42 U.S.C. 7413(a)(3). The United States alleged violations of the National Emissions Standards for Organic Hazardous Air Pollutants (NESHAP) for the Synthetic Organic Chemical Manufacturing Industry (SOCMI), 40 CFR part 63, subparts F, G, and H (“Hazardous Organic NESHAP” or HON), and ALTIVIA's title V permit. These violations relate to ALTIVIA's significant failure to comply with leak detection and repair (LDAR) obligations under the HON, including thousands of missed monitoring events of valves and connectors, as well as a general failure to monitor valves in accordance with EPA Reference Method 21. Under the proposed Consent Decree, ALTIVIA will control emissions from Unit 202-F, implement a five-year Enhanced LDAR Program with three independent audits, and pay a $1,112,500 civil penalty.

The publication of this notice opens a period for public comment on the consent decree. Comments should be addressed to the Assistant Attorney General, Environment and Natural Resources Division, and should refer to United States v. ALTIVIA Petrochemicals, LLC, D.J. Ref. No. 90-5-2-1-11905. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $18.00 (25 cents per page reproduction cost) payable to the United States Treasury.

Patricia McKenna,
Assistant Section Chief, Environmental Enforcement Section, Environment and Natural Resources Division.

[FR Doc. 2022-21100 Filed 9-28-22; 8:45 am]

BILLING CODE 4410-15-P